CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, CNCS is soliciting comments concerning its proposed Employers of National Service Annual Survey. The Employers of National Service program seeks to connect employers from all sectors with AmeriCorps and Peace Corps alumni. Organizations that have signed up to participate in the Employers of National Service program will be filling out this form on an annual basis. Through this survey, CNCS will collect information that will enable the agency to improve the program. Information provided is purely voluntary and will not be used for any grant or funding support.

Copies of the information collection request can be obtained by contacting the office listed in the Addresses section of this Notice.

DATES: Written comments must be submitted to the individual and office listed in the ADDRESSES section by February 8, 2016.

ADDRESSES: You may submit comments, identified by the title of the information collection activity, by any of the following methods:

(1) By mail sent to: Corporation for National and Community Service, Office of the CPO; Attention: Erin Dahlin, Deputy Chief of Program Operations, Rm 9309; 1201 New York Avenue NW., Washington, DC 20525.

(2) By hand delivery or by courier to the CNCS mailroom at Room 8100 at the mail address given in paragraph (1) above, between 9:00 a.m. and 4:00 p.m. Eastern Time, Monday through Friday, except Federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: Erin Dahlin, 202-606-6931, or by email at edahlin@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

Organizations from all sectors who are Employers of National Service will be filling out this form, including businesses, nonprofits, institutions of higher education, school districts, state/local governments, and federal agencies. The purpose of the form is to track what actions an employer has taken in the past year, gather stories of success or impact, collect quantitative hiring data relating to AmeriCorps and Peace Corps alumni, and provide organizations with an opportunity to update their contact and location data. The information will be collected electronically via our Web site.

Current Action

This is a new information collection request. The items on the form are: Employer name; fields to share notable hiring experiences and future plans/goals; human resources policy changes as an Employer of National Service; a section on recruiting and hiring, including applicants, candidates hired, and overall workforce information; a section to update contact and location information.

Type of Review: New.

Agency: Corporation for National and Community Service.

Title: Employers of National Service Annual Survey.

OMB Number: New.

Agency Number: None.

Affected Public: Any organization that is an Employer of National Service program, including businesses, nonprofits, institutions of higher education, school districts, state/local governments, and federal agencies.

Total Respondents: 500.

Frequency: Annually.

Average Time per Response: 30 minutes.

Estimated Total Burden Hours: 250.

Total Burden Cost (capital/startup): None.

Total Burden Cost (operating/maintenance): None.

Comments submitted in response to this notice will be summarized and/or included in the request for Office of Management and Budget approval of the information collection request; they will also become a matter of public record.

Dated: December 3, 2015.
Erin Dahlin,
Deputy Chief of Program Operations.

[FR Doc. 2015-31018 Filed 12-8-15; 8:45 am]

BILLING CODE 6050-28-P